DEPARTMENT OF COMMERCE

National Oceanic and Atmospheric Administration

RIN 0648-XG 049

New England Fishery Management Council; Public Meeting

AGENCY: National Marine Fisheries Service (NMFS), National Oceanic and Atmospheric Administration (NOAA), Commerce.

ACTION: Notice of public meeting.

SUMMARY: The New England Fishery Management Council (Council) is scheduling a four-day public meeting to undertake an independent review to assess past Council performance and solicit suggestions for improvement. Recommendations from this group will be brought to the full Council for formal consideration and action, if appropriate.

DATES: This meeting will be held from Tuesday, March 13 through Friday, March 16, 2018, beginning at 9 a.m. on Tuesday and at 8:30 a.m. Wednesday through Friday.

ADDRESSES:

Meeting address: The meeting will be held at the Hilton Garden Inn, Boston Logan, 100 Boardman Street, Boston, MA 02128; phone: (617) 567-6789.

Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION:

Agenda

The New England Fishery Management Council is conducting an independent review to: (1) Assess past performance; (2) gather feedback on strengths and weaknesses of the Council process and operations; and (3) identify potential areas for improvements. The review will be conducted by an independent six-member panel of fishery managers and scientists from other regions. Each member has a strong understanding of U.S. federal fisheries management but no recent affiliation with the New England Council. Some also have international experience. Non-Executive sessions will be open to the public. Conclusions and recommendations of the panel will be presented to the Council at a future meeting.

Additional information on the review is available on the Council website, www.nefmc.org. The public also should be aware that the meeting will be recorded. Consistent with 16 U.S.C. 1852, a copy of the recording is available upon request.

Special Accommodations

This meeting is physically accessible to people with disabilities. Requests for sign language interpretation or other auxiliary aids should be directed to Thomas A. Nies, Executive Director, at (978) 465-0492, at least 5 days prior to the meeting date.

Authority: 16 U.S.C. 1801 et seq.

Dated: February 21, 2018.
Tracey L. Thompson,
Acting Deputy Director, Office of Sustainable Fisheries, National Marine Fisheries Service.

[FR Doc. 2018-03836 Filed 2-23-18; 8:45 am]

BILLING CODE 3510-22-P